CONSUMER PRODUCT SAFETY COMMISSION

[Docket No. CPSC-2009-0015]

Submission for OMB Review; Comment Request: Testing and Recordkeeping Requirements Under the Standard for the Flammability (Open Flame) of Mattresses

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information associated with the Commission's safety standard for approval of information collection requirements in the Standard for the Flammability—Open Flame—of Mattresses Sets, 16 CFR part 1633.

DATES: Written comments on this request for extension of approval of information collection requirements should be submitted by April 18, 2013.

ADDRESSES: To ensure that comments on the information collection are received, the OMB recommends that written comments be faxed to the Office of Information and Regulatory Affairs, OMB, Attn: CPSC Desk Officer, FAX: 202-395-6974, or emailed to oira_submission@omb.eop.gov. All comments should be identified by Docket No. CPSC-2009-0015. In addition, written comments also should be submitted at http://www.regulations.gov, under Docket No. CPSC-2009-0015, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; telephone: 301-504-7923 or by email to rsquibb@cpsc.gov.

SUPPLEMENTARY INFORMATION: In the Federal Register of January 4, 2013 (78 FR 694), the Consumer Product Safety Commission published a notice in accordance with provisions of the Paperwork Reduction Act of 1995 (44 U.S.C. Chapter 35) to announce the agency's intention to seek extension of approval of the collection of information required in the Standard for the Flammability (Open Flame) of Mattresses Sets, 16 CFR part 1633. No comments were received in response to that notice. Therefore, by publication of this notice, the Commission announces that it has submitted to the OMB a request for extension of approval of that collection of information without change.

The Mattress Open-Flame standard is intended to reduce unreasonable risks of burn injuries and deaths from fires associated with mattresses, particularly those initially ignited by open-flame sources, such as lighters, candles, and matches. The Mattress Open-Flame standard prescribes a test to minimize or delay flashover when a mattress is ignited. The standard requires manufacturers to test specimens of each of their mattress prototypes before mattresses based on that prototype may be introduced into commerce.

The Mattress Open-Flame standard requires detailed documentation of prototype identification and testing records, model and prototype specifications, inputs used, name and location of suppliers, and confirmation test records, if establishments choose to pool a prototype. This documentation is in addition to documentation already conducted by mattress manufacturers in their efforts to meet the mattress cigarette standard under 16 CFR part 1632. CPSC staff estimates that there are 571 establishments producing conventional mattresses and 100 establishments producing nonconventional mattresses in the United States, for a total of 671 firms affected by this standard. CPSC staff estimates the recordkeeping requirements to take about 4 hours and 44 minutes per establishment, per qualified prototype. Although some larger manufacturers reportedly are producing mattresses based on more than 100 prototypes, most mattress manufacturers base their complying production on 15 to 20 prototypes.

Assuming that establishments qualify their production with an average of 20 different qualified prototypes, recordkeeping time is estimated to be 94.7 hours (4.73 hours × 20 prototypes) per establishment, per year. (However, pooling among establishments or using a prototype qualification for longer than 1 year will reduce this estimate). Accordingly, the annual recordkeeping time cost to all mattress producers is estimated at 63,521 hours (94.7 hours × 671 establishments). The hourly compensation for the time required for recordkeeping is $27.64 (U.S. Bureau of Labor Statistics, “Employer Costs for Employee Compensation,” June 2012, Table 9, total compensation for all sales and office workers in goods-producing, private industries: http://www.bls.gov/ncs). Total estimated costs for recordkeeping are approximately $1.7 million (63,521 hours × $27.64). The estimated annual cost of information collection requirements to the federal government is approximately $717,954.

Dated: March 14, 2013.
Todd A. Stevenson,
Secretary, Consumer Product Safety Commission.

[FR Doc. 2013-06273 Filed 3-18-13; 8:45 am]

BILLING CODE 6355-01-P